INTERNATIONAL TRADE COMMISSION

[Investigation No. 337-TA-1321]

Certain Barcode Scanners, Scan Engines, Mobile Computers With Barcode Scanning Functionalities, Products Containing the Same, and Components Thereof II; Notice of a Commission Determination Not To Review an Initial Determination Terminating the Investigation Due to a Settlement Agreement; Termination of Investigation

AGENCY: U.S. International Trade Commission.

ACTION: Notice.

SUMMARY: Notice is hereby given that the U.S. International Trade Commission (“Commission”) has determined not to review an initial determination (“ID”) (Order No. 3) issued by the presiding administrative law judge (“ALJ”) terminating the above-captioned investigation based on a settlement agreement. The investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 11, 2022, based on a complaint, as supplemented, filed by Honeywell International Inc. of Charlotte, North Carolina and Hand Held Products, Inc. of Charlotte, North Carolina (collectively, “Honeywell”). 87 FR 38423-24 (June 28, 2022). The complaint, as supplemented, alleges violations of section 337 of the Tariff Act of 1930, as amended, 19 U.S.C. 1337, in the importation into the United States, sale for importation, or sale in the United States after importation of certain barcode scanners, scan engines, mobile computers with barcode scanning functionalities, products containing the same, and components thereof by reason of infringement of certain claims of U.S. Patent Nos. 11,323,949; 11,323,650; 7,852,519; and 9,258,188. Id. The complaint further alleges that a domestic industry exists. Id.

The Commission's notice of investigation named the following respondents: Zebra Technologies Corp. of Lincolnshire, Illinois and Symbol Technologies, LLC of Holtsville, New York (collectively, “Zebra”). The Office of Unfair Import Investigations is not participating as a party in this investigation.

On July 11, 2022, Honeywell and Zebra jointly moved to terminate the investigation based on a settlement agreement.

On July 12, 2022, the presiding ALJ issued the subject ID (Order No. 3) granting the joint motion to terminate the investigation. The ID finds that, pursuant to Commission Rules 210.21(a), (b) (19 CFR 210.21(a), (b)), Honeywell and Zebra represent that there are no other agreements, express or implied, oral or written, between them regarding the subject matter of this investigation. The ID further finds that termination is proper because it would not be contrary to the public health and welfare, competitive conditions in the U.S. economy, the production of like or directly competitive conditions in the United States, or U.S. consumers. The ID further finds that termination is in the public interest, and it will conserve public and private resources.

No party filed a petition for review of the subject ID.

The Commission has determined not to review the subject ID. Accordingly, the investigation is hereby terminated.

The Commission vote for this determination took place on August 11, 2022.

The authority for the Commission's determination is contained in section 337 of the Tariff Act of 1930, as amended (19 U.S.C. 1337), and in Part 210 of the Commission's Rules of Practice and Procedure (19 CFR part 210).

By order of the Commission.
Issued: August 11, 2022.
Katherine Hiner,
Acting Secretary to the Commission.

[FR Doc. 2022-17639 Filed 8-16-22; 8:45 am]

BILLING CODE 7020-02-P